DEPARTMENT OF COMMERCE

National Oceanic and Atmospheric Administration

RIN 0648-XF664

Marine Mammals; File No. 21422

AGENCY: National Marine Fisheries Service (NMFS), National Oceanic and Atmospheric Administration (NOAA), Commerce.

ACTION: Notice; receipt of application.

SUMMARY: Notice is hereby given that James Lloyd-Smith, Ph.D., Department of Ecology and Evolutionary Biology University of California, Los Angeles Los Angeles, CA 90095, has applied in due form for a permit to conduct research on marine mammals.

DATES: Written, telefaxed, or email comments must be received on or before October 13, 2017.

ADDRESSES: The application and related documents are available for review by selecting “Records Open for Public Comment” from the “Features” box on the Applications and Permits for Protected Species (APPS) home page, https://apps.nmfs.noaa.gov, and then selecting File No. 21422 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216) and the Fur Seal Act of 1966, as amended (16 U.S.C. 1151 et seq.).

The applicant requests a five year research permit to take California sea lions (CSL; Zalophus californianus) to study the disease ecology of Leptospira in the pinniped populations along the west coast of the United States. Up to 460 non-pup CSL may be captured and sampled annually at several sites in California, Oregon, and Washington. During capture animals may be restrained and receive anesthesia, biological sampling (blood, urine, feces, vibrissae, hair and nail clip, and mucus membrane swabs), length and weight measurements, and external tags. An additional 60 non-target CSL, including large pups, may be incidentally captured and restrained to determine age and sex, but would be released without sampling. If opportunistically encountered during sampling, up to 30 entangled CSL may be captured for disentanglement, and up 100 dead stranded CSL may be necropsied, annually. Up to 8 CSL may be taken by unintentional mortality during the requested five year permit. An additional 20,000 CSL, 5,000 Northern elephant seals (Mirounga angustirostris), 500 Northern fur seals (Callorhinus ursinus), 100 harbor seals (Phoca vitulina), and 50 non-listed Steller sea lions (Eumetopias jubatus) may be disturbed incidentally to capture activities.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 7, 2017.
Julia Harrison,
Chief, Permits and Conservation Division, Office of Protected Resources, National Marine Fisheries Service.

[FR Doc. 2017-19393 Filed 9-12-17; 8:45 am]

BILLING CODE 3510-22-P